DEPARTMENT OF LABOR

Employment and Training Administration

Investigations Regarding Certifications of Eligibility To Apply for Worker Adjustment Assistance

Petitions have been filed with the Secretary of Labor under Section 221 (a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than February 21, 2006.

Interested persons are invited to submit written comments regarding the subject matter of the investigations to the Director, Division of Trade Adjustment Assistance, at the address shown below, not later than February 21, 2006.

The petitions filed in this case are available for inspection at the Office of the Director, Division of Trade Adjustment Assistance, Employment and Training Administration, U.S. Department of Labor, Room C-5311, 200 Constitution Avenue, NW., Washington, DC 20210.

Signed at Washington, DC this 31st day of January 2006.
Erica R. Cantor,
Director, Division of Trade Adjustment Assistance.

Appendix
[TAA petitions instituted between 1/16/06 and 1/20/06]
TA-W | Subject firm (petitioners) | Location | Date of Institution | Date of Petition
58637 | Carolina Mills, Inc. (Comp) | Valdese, NC | 01/17/06 | 01/17/06
58638 | Mosey Mfg. Co., Inc. (Comp) | Richmond, IN | 01/17/06 | 01/16/06
58639 | Albany Industries (Comp) | New Albany, MS | 01/17/06 | 01/13/06
58640 | Gamco Products (Wkrs) | Henderson, KY | 01/17/06 | 01/14/06
58641 | Elkem Carbon (USW) | Keokuk, IA | 01/17/06 | 01/16/06
58642 | Jones Apparel Group (IBT) | Bristol, PA | 01/18/06 | 01/13/06
58643 | Collins and Aikman (USWA) | Nashville, TN | 01/18/06 | 01/13/06
58644 | Corinthian, Inc. (Wkrs) | Corinth, MS | 01/18/06 | 01/12/06
58645 | Greif, Inc. (Wkrs) | Reno, PA | 01/18/06 | 01/13/06
58646 | Klaussner Furniture Ind. (Wkrs) | Asheboro, NC | 01/18/06 | 12/22/05
58647 | American National Rubber (Comp) | Louisa, KY | 01/18/06 | 01/13/06
58648 | Fisher Hamilton L.L.C. (UBC) | Two Rivers, WI | 01/18/06 | 01/13/06
58649 | Mondi Packaging Akrosil LLC (USW) | Menasha, WI | 01/18/06 | 01/12/06
58650 | Continental AFA Dispensing Co. (Comp) | Forest City, NC | 01/18/06 | 01/16/06
58651 | Sheppard Frames, Inc. (Wkrs) | Thomasville, NC | 01/18/06 | 01/17/06
58652 | Atlantic Luggage Company (Comp) | Ellwood City, PA | 01/18/06 | 01/13/06
58653 | AK Steel (UAW) | Butler, PA | 01/18/06 | 01/17/06
58654 | J and R Wire, Inc. (Comp) | Scranton, PA | 01/18/06 | 01/17/06
58655 | Terumo Medical Corporation (State) | Elkton, MD | 01/18/06 | 01/17/06
58656 | Andrews Wire (Comp) | Andrews, SC | 01/18/06 | 01/16/06
58657 | Young Stuff (Wkrs) | New York, NY | 01/18/06 | 01/13/06
58658 | CMOR Manufacturing, Inc. (Wkrs) | Rocklin, CA | 01/18/06 | 01/18/06
58659 | Degussa Corporation (Wkrs) | Lockland, OH | 01/18/06 | 01/13/06
58660 | L'Oreal USA Products, Inc. (Comp) | Savannah, GA | 01/18/06 | 01/10/06
58661 | KEMET Electronics Corporation (Comp) | Simpsonville, SC | 01/19/06 | 01/18/06
58662 | Maben Logging (State) | Heppner, OR | 01/19/06 | 01/18/06
58663 | Classic Print Products, Inc. (Comp) | Burlington, NC | 01/19/06 | 01/12/06
58664 | Maine Scientific (State) | Richmond, ME | 01/19/06 | 01/17/06
58665 | American Racing Equipment (State) | Rancho Dominguez, CA | 01/19/06 | 01/18/06
58666 | TYK America, Inc. (USW) | Irvona, PA | 01/19/06 | 01/18/06
58667 | Kimberly-Clark (Comp) | Neenah, WI | 01/19/06 | 01/12/06
58668 | Lear Corporation (Comp) | Southfield, MI | 01/19/06 | 01/18/06
58669 | Franklin Electric Company (State) | Siloam Springs, AR | 01/19/06 | 01/18/06
58670 | SLM Electronics (State) | Yellville, AR | 01/19/06 | 01/18/06
58671 | Sebastian Furniture Co. (State) | Barling, AR | 01/19/06 | 01/18/06
58672 | GKN Driveline North America, Inc. (Comp) | Sanford, NC | 01/19/06 | 01/18/06
58673 | Columbia Forest Products (Wkrs) | Klamath Falls, OR | 01/19/06 | 01/18/06
58674 | Fuji Hunt Photographic Chemicals, Inc. (Comp) | Dayton, TN | 01/19/06 | 01/18/06
58675 | Outsource Partners International (State) | Houston, TX | 01/19/06 | 01/18/06
58676 | Mainzer Minton Co. (Comp) | Hackettstown, NJ | 01/19/06 | 12/28/05
58677 | Avanex Corporation (Comp) | Fremont, CA | 01/20/06 | 01/19/06
58678 | Maryland MPC (Wkrs) | Lowell, MA | 01/20/06 | 01/17/06
58679 | Falcon Foam (Comp) | Los Angeles, CA | 01/20/06 | 01/19/06
58680 | Leemah Electronics (Wkrs) | San Francisco, CA | 01/20/06 | 01/06/06
58681 | Atlas Spring (State) | Gardena, CA | 01/20/06 | 01/10/06
58682 | Robert Bosch Fuel Systems (Wkrs) | Kentwood, MI | 01/20/06 | 12/22/05
58683 | Cedar Valley Wood Products (Comp) | Eldon, MO | 01/20/06 | 01/20/06
58684 | Smurfit-Stone Container Corporation (Wkrs) | Roanoke, VA | 01/20/06 | 01/17/06

[FR Doc. E6-1920 Filed 2-9-06; 8:45 am]

BILLING CODE 4510-30-P